DEPARTMENT OF COMMERCE

National Oceanic and Atmospheric Administration

50 CFR Part 648

[Docket No. 140106011-4338-02]

RIN 0648-XD418

Fisheries of the Northeastern United States; Northeast Multispecies Fishery; Trimester Total Allowable Catch Area Closure for the Common Pool Fishery and Possession Limit Adjustment

AGENCY: National Marine Fisheries Service (NMFS), National Oceanic and Atmospheric Administration (NOAA), Commerce.

ACTION: Temporary rule; area closure and possession limit adjustment.

SUMMARY: This action closes the American plaice Trimester Total Allowable Catch Area to Northeast multispecies common pool trawl vessels for the remainder of Trimester 1, through August 31, 2014. The closure is required by regulation because the common pool fishery has caught 120 percent of its Trimester 1 quota for American plaice. This closure is intended to prevent the overharvest of the common pool's allocation for this stock. Because the common pool catch of American plaice is not limited to the American plaice Trimester Total Allowable Catch Area, this action also reduces possession and trip limit for the American plaice stock to zero for all common pool vessels through August 31, 2014, in order to prevent the overharvest of the common pool's allocation of American plaice.

DATES: This action is effective August 6, 2014, through August 31, 2014.

FOR FURTHER INFORMATION CONTACT: Liz Sullivan, Fishery Management Specialist, 978-282-8493.

SUPPLEMENTARY INFORMATION: Federal regulations at § 648.82(n)(2)(ii) require the Regional Administrator to close a common pool Trimester Total Allowable Catch (TAC) Area for a stock when 90 percent of the Trimester TAC is projected to be caught. In such cases, the Trimester TAC Area for a stock closes to all common pool vessels fishing with gear capable of catching that stock for the remainder of the trimester. The fishing year 2014 (May 1, 2014, through April 30, 2015) common pool sub-ACL for American plaice is 24.0 mt and the Trimester 1 (May 1, 2014, through August 30, 2014) TAC is 5.8 mt. Based on the most recent data and information, which include vessel trip reports, dealer-reported landings, and vessel monitoring system information, we have determined that 120 percent of the Trimester 1 TAC was caught as of July 26, 2014. Therefore, effective August 6, 2014, the American plaice Trimester TAC Area is closed for the remainder of Trimester 1, through August 31, 2014, to all common pool vessels fishing with trawl gear. The American plaice Trimester TAC Area consists of statistical areas 512, 513, 514, 515, 521, 522, and 525. The area will reopen to common pool vessels fishing with trawl gear at the beginning of Trimester 2 on September 1, 2014.

The regulations at § 648.86(o) authorize the Regional Administrator to adjust the possession and trip limits for common pool vessels to prevent the overharvest or underharvest of the common pool quotas. Because the closure described above only applies to select areas and gear types, and because the American plaice Trimester TAC has been exceeded, additional action is necessary to prevent further overages of the Trimester TAC. Therefore, the possession and trip limit for American plaice is reduced to zero for all common pool vessels in all areas, effective August 6, 2014, through August 31, 2014.

Any overages of a trimester TAC will be deducted from Trimester 3, and any overages of the common pool's sub-ACL at the end of the fishing year will be deducted from the common pool's sub-ACL the following fishing year. Any uncaught portion of the Trimester 1 and Trimester 2 TAC will be carried over into the next trimester. Any uncaught portion of the common pool's sub-ACL may not be carried over into the following fishing year.

Weekly quota monitoring reports for the common pool fishery can be found on our Web site at: http://www.nero.noaa.gov/ro/fso/MultiMonReports.htm. We will continue to monitor common pool catch through vessel trip reports, dealer-reported landings, vessel monitoring system catch reports, and other available information and, if necessary, we will make additional adjustments to common pool management measures.

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be impracticable and contrary to the public interest.

The Trimester TAC Area closure is required by regulation in order to reduce the probability of the common pool fishery exceeding its sub-ACL of American plaice. Any overages of the common pool's sub-ACLs would undermine conservation objectives and trigger the implementation of accountability measures that would have negative economic impacts on common pool vessels. The data and information showing that American plaice had exceeded 90 percent of the Trimester 1 TAC for the stock only became available on July 26, 2014. The time necessary to provide for prior notice and comment, and a 30-day delay in effectiveness, would prevent NMFS from implementing the necessary Trimester TAC Area closure for American plaice in a timely manner, which could undermine management objectives of the Northeast Multispecies Fishery Management Plan, and cause negative economic impacts to the common pool fishery.

Additionally, the overage in the American plaice Trimester 1 TAC increases the probability of the common pool exceeding its sub-ACL of American plaice by more than it already has. The time necessary to provide for prior notice and comment, and a 30-day delay in effectiveness, would prevent NMFS from setting the possession and trip limit to zero for American plaice in a timely manner, which could also undermine management objectives of the Northeast Multispecies Fishery Management Plan, and cause negative economic impacts to the common pool fishery.

Authority: 16 U.S.C. 1801 et seq.

Dated: July 31, 2014.
Emily H. Menashes,
Acting Director, Office of Sustainable Fisheries, National Marine Fisheries Service.

[FR Doc. 2014-18513 Filed 7-31-14; 4:15 pm]

BILLING CODE 3510-22-P